DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Health Education Assistance Loan (HEAL) Program Regulations (OMB No. 0915-0108) Extension

The Health Education Assistance Loan (HEAL) Program has regulations that contain notification, reporting and recordkeeping requirements to insure that the lenders, holders and schools participating in the HEAL program follow sound management procedures in the administration of federally-insured student loans. While the regulatory requirements are approved under the OMB number referenced above, much of the burden associated with the regulations is cleared under separate OMB numbers for the HEAL forms and electronic submissions used to report required information. The table below provides the estimate of burden for the remaining regulations.

The estimates of burden are as follows:

Reporting Requirements
Number of respondents | Number of transactions | Total transactions | Hours per response | Total burden hours
17 Holders | 5 | 78 | 12 Min | 16
190 Schools | .4 | 78 | 10 Min | 13
Total Reporting |  |  |  | 29

Notification Requirements
Number of respondents | Number of transactions | Total transactions | Hours per response | Total burden hours
7,930 Borrowers | 1 | 7,930 | 10 Min | 1,322
17 Holders | 7,910 | 134,470 | 10 Min | 22,412
190 Schools | .89 | 170 | 14 Min | 40
Total Notification |  |  |  | 23,774

Recordkeeping Requirements
Number of respondents | Number of transactions | Total transactions | Hours per response | Total burden hours
17 Holders | 3,568 | 60,657 | 14 Min | 14,153
190 Schools | 257 | 48,822 | 15 Min | 12,206
Total Recordkeeping |  |  |  | 26,359
Total |  |  |  | 50,162

E-mail comments to paperwork@hrsa.gov or mail to the HRSA Reports Clearance Officer, Room 10-33, Parklawn Building, 5600 Fishers Lane, Rockville, MD 20857. Written comments should be received within 60 days of this notice.

Dated: December 4, 2009.
Alexandra Huttinger,
Director, Division of Policy Review and Coordination.

[FR Doc. E9-29827 Filed 12-14-09; 8:45 am]

BILLING CODE 4165-15-P